DEPARTMENT OF DEFENSE

Department of the Army; Corps of Engineers

Notice of Availability of the Record of Decision for the Final Environmental Impact Statement/Environmental Impact Report (EIS/EIR) and the Final General Conformity Determination for the Newhall Ranch Resource Management and Development Plan, Santa Clarita, CA

AGENCY: U.S. Army Corps of Engineers, DoD.

ACTION: Notice of availability.

SUMMARY: The U.S. Army Corps of Engineers, Los Angeles District, Regulatory Division (Corps) has made a Final General Conformity Determination (GCD) and executed a Record of Decision (ROD) for the Final Environmental Impact Statement/Environmental Impact Report (EIS/EIR) and a Section 404 Permit under the Clean Water Act for the Newhall Ranch Resource Management and Development Plan, Santa Clarita, California. This Notice serves as the Public Notice/Notice of Availability for the Final EIS/EIR ROD and the Final GCD. The Record of Decision for the Final EIS/EIR was signed on 31 August 2011.

In June 2010, the Corps, in coordination with the California Department of Fish and Game (CDFG), completed and published a joint Final EIS/EIR and Draft GCD, pursuant to National Environmental Policy Act (NEPA) and section 176(c) of the Clean Air Act. The identified least environmentally damaging practicable alternative (LEDPA) in the ROD includes permanent impacts to 47.9 acres of waters of the United States, including 5.1 acres of wetlands, associated with discharges of fill material for bank protection to protect land development projects along water courses (including buried soil cement, buried gunite, grouted riprap, ungrouted riprap, and gunite lining); drainage facilities such as storm drains or outlets and partially lined open channels; grade control structures; bridges and drainage crossings; building pads; and water quality control facilities (sedimentation control, flood control, debris, and water quality basins). The LEDPA also includes temporary impacts to 35.3 acres of waters of the United States, including 11.8 acres of wetlands, associated with the construction of bank protection to protect land development projects along water courses (including buried soil cement, buried gunite, grouted riprap, ungrouted riprap, and gunite lining); utility crossings; activities associated with construction of a Water Reclamation Plant adjacent to the Santa Clara River and required bank protection; water quality control facilities (sedimentation control, flood debris, and water quality basins); regular and ongoing maintenance of all flood, drainage, and water quality protection structures and facilities on the RMDP site (such activities would include periodic inspection of structures and monitoring of vegetation growth and sediment buildup to ensure that the integrity of the structures is maintained and that planned conveyance capacity is present, routine repairs and maintenance of bridges and bank protection, and emergency maintenance activities); and temporary haul routes for grading equipment and geotechnical survey activities.

As a Federal agency, the Corps prepared the Final GCD in compliance with Section 176(c) of the Clean Air Act and for the issuance of a Corps Section 404 Permit for the discharges of fill material into waters of the United States. Direct and indirect air emissions for all pollutants related to the Federal action are not below specified de minimis Federal thresholds (40 CFR 93.153(b)).

On 31 August 2011, the Corps completed its environmental review and finalized the GCD, executed the ROD, and issued a provisional Section 404 Standard Individual Permit for the LEDPA. The Corps considered and responded to all comments received in finalizing the EIS/EIR, Final GCD, ROD, and issuing the provisional permit. The public can request copies of the Final General Conformity Determination document or the ROD from the Corps at the address listed below. In addition, copies of the Final General Conformity Determination document are available for review during the next 30 days at the following libraries: County of Los Angeles Newhall Branch, Castaic Branch, Sylmar Branch, Valencia Branch, and the County of Ventura Fillmore Branch.

FOR FURTHER INFORMATION CONTACT: Questions or requests concerning the Final General Conformity Determination or the ROD should be directed to: Dr. Aaron O. Allen, Chief, North Coast Branch, Regulatory Division, U.S. Army Corps of Engineers, 2151 Alessandro Drive, Suite 110, Ventura, California 93001, (805) 585-2148.

SUPPLEMENTARY INFORMATION: None.

Dated: September 19, 2011.
David J. Castanon,
Chief, Regulatory Division, Los Angeles District.

[FR Doc. 2011-24509 Filed 9-22-11; 8:45 am]

BILLING CODE 3720-58-P